SECURITIES AND EXCHANGE COMMISSION

[Release No. IC-24811]

Notice of Applications for Deregistration Under Section 8(f) of the Investment Company Act of 1940

December 28, 2000.

The following is a notice of applications for deregistration under section 8(f) of the Investment Company Act of 1940 for the month of December 2000. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on January 22, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

The Winter Harbor Fund [File No. 811-8793]

Summary: Applicant seeks an order declaring that it has ceased to be an investment company. On October 13, 2000, applicant transferred its assets to The Royce Total Return Fund, a series of The Royce Fund, based on net asset value. Expenses of $29,109 were incurred in connection with the reorganization, of which Royce & Associates, Inc., investment adviser to the acquiring fund, paid $25,000, Ebright Investments, Inc., applicant's investment adviser, paid $1,244, and applicant paid the remainder.

Filing Dates: The application was filed on November 9, 2000, and amended on December 15, 2000.

Applicant's Address: 511 Congress Street, Portland, Maine 04101.

Advisers Managers Trust [File No. 811-8578]

Summary: Applicant, a master fund in a master/feeder structure, seeks an order declaring that it has ceased to be an investment company. On May 1, 2000, applicant made a liquidating distribution to its shareholders based on net asset value. Expenses of $58,000 incurred in connection with the liquidation were paid by applicant.

Filing Dates: The application was filed on November 16, 2000, and amended on December 19, 2000.

Applicant's Address: 605 Third Avenue, 2nd Floor, New York, New York 10158-0180.

ESC Strategic Funds, Inc. [File No. 811-8166]

Summary: Applicant seeks an order declaring that it has ceased to be an investment company. On March 24 and March 27, 2000, applicant transferred its assets to STI Classic Funds based on net asset value. Expenses of $71,807 incurred in connection with the reorganization were paid by each series of applicant on a pro rata basis.

Filing Dates: The application was filed on July 31, 2000, and amended on October 20, 2000.

Applicant's Address: 3435 Steltzer Road, Columbus, Ohio 43219.

Jardine Fleming Asia Infrastructure Fund, Inc. [File No. 811-8458]

Summary: Applicant seeks an order declaring that it has ceased to be an investment company. Applicant has never made a public offering of its securities and does not propose to make any public offering or engage in business of any kind.

Filing Dates: The application was filed on October 25, 2000, and amended on December 11, 2000.

Applicant's Address: 1345 Avenue of the Americas, New York, New York 10105.

Van Kampen Convertible Securities Fund [File No. 811-2282]

Summary: Applicant seeks an order declaring that it has ceased to be an investment company. On August 9, 2000, applicant transferred its assets to Van Kampen Harbor Fund based on net asset value. Expenses of $175,100 incurred in connection with the reorganization were paid by applicant.

Filing Dates: The application was filed on October 25, 2000, and amended on December 4, 2000.

Applicant's Address: 1 Parkview Plaza, PO Box 5555, Oakbrook Terrace, Illinois 60181-5555a.

Worldwide Developing Resources Portfolio [File No. 811-8151]

Summary: Applicant, the master fund in a master/feeder structure, seeks an order declaring that it has ceased to be an investment company. On December 18, 1999, applicant made a final liquidating distribution to its shareholders based on net asset value. Expenses of $25,297 incurred in connection with the liquidation were paid by Eaton Vance Worldwide Developing Resources Fund, a feeder fund that invested all of its assets in applicant.

Filing Dates: The application was filed on November 1, 2000, and amended on November 29, 2000.

Applicant's Address: The Eaton Vance Building, 255 State Street, Boston, Massachusetts 02109.

Great Plains Fund [File No. 811-8281]

Summary: Applicant seeks an order declaring that it has ceased to be an investment company. On September 8, 2000, applicant transferred its assets to Wells Fargo Funds Trust based on net asset value. Applicant bore no expenses in connection with the reorganization.

Filing Dates: The application was filed on November 14, 2000, and amended on December 22, 2000.

Applicant's Address: 5800 Corporate Drive, Pittsburgh, Pennsylvania 15237-7010.

Michigan Daily Municipal Income Fund, Inc. [File No. 811-5015]

Summary: Applicant seeks an order declaring that it has ceased to be an investment company. On October 23, 2000, applicant made a final liquidating distribution to its sole shareholder based on net asset value. Expenses of $3,000 incurred in connection with the liquidation were paid by Reich & Tang Asset Management L.P., applicant's investment adviser.

Filing Dates: The application was filed on December 6, 2000, and amended on December 22, 2000.

Applicant's Address: 600 Fifth Avenue, New York, New York 10020.

For the Commission, by the Division of Investment Management, pursuant to delegated authority.
Jonathan G. Katz,
Secretary.

[FR Doc. 01-293 Filed 1-4-01; 8:45 am]

BILLING CODE 8010-01-M